LIBRARY OF CONGRESS

Copyright Office

[Docket No. 2023-6]

Artificial Intelligence and Copyright

AGENCY: Copyright Office, Library of Congress.

ACTION: Notice of inquiry; extension of comment period.

SUMMARY: The United States Copyright Office is extending the deadline to submit reply comments in connection with a study of the copyright law and policy issues raised by artificial intelligence systems.

DATES: Written reply comments are due no later than 11:59 p.m. Eastern Time on Wednesday, December 6, 2023.

ADDRESSES: For reasons of governmental efficiency, the Copyright Office is using the regulations.gov system for the submission and posting of public comments in this proceeding. All comments should be submitted electronically through regulations.gov. Specific instructions for submitting comments are available on the Copyright Office website at https://copyright.gov/policy/artificial-intelligence. If electronic submission is not feasible, please contact the Office using the contact information below for special instructions.

FOR FURTHER INFORMATION CONTACT: Rhea Efthimiadis, Assistant to the General Counsel, by email at meft@copyright.gov or telephone at 202-707-8350.

SUPPLEMENTARY INFORMATION: On August 30, 2023, the U.S. Copyright Office issued a notice of inquiry seeking comments from the public on several questions about the copyright law and policy issues raised by artificial intelligence systems. The notice set a deadline for initial comments on October 18, 2023 and for reply comments on November 15, 2023.¹ On September 21, 2023, these deadlines were extended to October 30, 2023 and November 29, 2023, respectively.²

¹ 88 FR 59942 (Aug. 30, 2023).

² 88 FR 65205 (Sept. 21, 2023).

To ensure that members of the public have sufficient time to prepare responses to the Office's questions and submitted comments, and to ensure that the Office can proceed on a timely basis with its inquiry of the issues identified in its notice with the benefit of a complete record, the Office is extending the deadline for reply comments. Reply comments will be due by 11:59 p.m. Eastern Time on December 6, 2023.

Dated: November 8, 2023.
Suzanne V. Wilson,
General Counsel and Associate Register of Copyrights.

[FR Doc. 2023-25128 Filed 11-14-23; 8:45 am]

BILLING CODE 1410-30-P